ENVIRONMENTAL PROTECTION AGENCY

[FRL-9932-96-Region 10]

Proposed Issuance of the NPDES General Permit for Offshore Seafood Processors in Federal Waters off the Washington and Oregon Coast (Permit Number WAG520000)

AGENCY: Environmental Protection Agency (EPA).

ACTION: Notice of proposed issuance of NPDES general permit and request for public comment.

SUMMARY: The Director, Office of Water and Watersheds, EPA Region 10, is proposing to issue a general National Pollutant Discharge Elimination System (NPDES) permit for Offshore Seafood Processors discharging in Federal Waters off the coasts of Washington and Oregon, pursuant to the provisions of the Clean Water Act, 33 U.S.C. 1251, et seq. As proposed, the draft general permit authorizes the discharge of treated seafood processing wastes from facilities to Federal Waters of the contiguous zone and ocean.

DATES: The public comment period for the draft general permit will be from the date of publication of this Notice until October 8, 2015. Comments must be received or postmarked by no later than midnight Pacific Daylight Time on October 8, 2015. Persons wishing to request a public hearing should submit their written request by October 8, 2015.

ADDRESSES: Comments on the proposed general permit should be sent to Lindsay Guzzo, Office of Water and Watersheds; USEPA Region 10; 1200 6th Ave., Suite 900, OWW-191; Seattle, Washington 98101. Comments may also be received via electronic mail at Guzzo.Lindsay@epa.gov. A copy of the permit and other support documents can be found on the Region 10 Web site at http://www.epa.gov/r10earth/waterpermits.htm.

FOR FURTHER INFORMATION CONTACT: Lindsay Guzzo at Guzzo.Lindsay@epa.gov or (206) 553-0268. Requests may also be made to Audrey Washington at (206) 553-0523 or Washington.Audrey@epa.gov.

SUPPLEMENTARY INFORMATION:

Public Comment

The draft general permit contains technology-based effluent limitations, administrative and monitoring requirements, as well as other standard conditions, prohibitions, and management practices. A fact sheet has been prepared which sets forth the principle factual, legal, policy, and scientific information considered in the development of the draft general permit. Copies of the draft general permit, fact sheet, Biological Evaluation, Essential Fish Habitat Assessment, and Ocean Discharge Criteria Evaluation are available online at http://www.epa.gov/r10earth/waterpermits.htm (click on draft permits, then Oregon and Washington), at the EPA Region 10 headquarters at the address listed above any time between 8:30 a.m. and 4:00 p.m., Monday through Friday, or mailed upon request. Interested persons may submit written comments to the attention of Lindsay Guzzo at the address above. All comments must include the name, address, and telephone number of the commenter, a concise statement of comment and the relevant facts upon which it is based. Comments of either support or concern which are directed at specific, cited permit requirements are appreciated.

After the expiration date of the Public Notice on October 8, 2015, the Director, Office of Water and Watersheds, EPA Region 10, will make a final determination with respect to issuance of the general permit. The proposed requirements contained in the draft general permit will become final upon issuance if no significant comments are received during the public comment period.

Public Hearing

Persons wishing to request a public hearing should submit their written request by October 8, 2015 stating the nature of the issues to be raised as well as the requester's name, address and telephone number to Lindsay Guzzo at the address above. If a public hearing is scheduled, notice will be published in the Federal Register. Notice will also be posted on the Region 10 Web site, and will be mailed to all interested persons receiving letters of the availability of the draft permit.

Endangered Species Act

Section 7 of the Endangered Species Act (ESA), 16 U.S.C. 1531-1544, requires federal agencies to consult with the National Marine Fisheries Service (NMFS) and the U.S. Fish and Wildlife Service (USFWS) if their actions have the potential to either beneficially or adversely affect any threatened or endangered species. To address these ESA requirements, and in support of the EPA's informal consultation with the Services, a Biological Evaluation (BE) was prepared to analyze these potential effects. The results of the BE concluded that discharges from Offshore Seafood Processing facilities will either have no effect or are not likely to adversely affect threatened or endangered species in the vicinity of the discharges. The fact sheet, the draft permits and the BE are being sent to the Services for review of consistency with those programs established for the conservation of endangered and threatened species. Any additional comments or conservation recommendations received from the Services regarding threatened or endangered species will be considered prior to issuance of the general permit.

Magnuson-Stevens Fishery Conservation and Management Act Section 305(b) of the Magnuson-Stevens Act [16 U.S.C. 1855(b)] requires federal agencies to consult with NOAA Fisheries when any activity proposed to be permitted, funded, or undertaken by a federal agency may have an adverse effect on designated Essential Fish Habitat (EFH) as defined by the Act. To address the requirements of the Magnuson-Stevens Act, the EPA prepared an EFH Assessment concluding that offshore seafood processors operations may adversely affect essential fish habitat. However, the EPA expects that effects on essential fish habitat, while possible, are likely to be limited in extent for several reasons. For more information please see the Biological Evaluation/EFH assessment. Any additional comments or conservation recommendations received from NOAA Fisheries regarding EFH will be considered prior to issuance of the general permit.

Executive Order 12866

The Office of Management and Budget (OMB) exempts this action from the review requirements of Executive Order 12866 pursuant to Section 6 of that order.

Paperwork Reduction Act

The EPA has reviewed the requirements imposed on regulated facilities in the draft general permit and finds them consistent with the Paperwork Reduction Act of 1980, 44 U.S.C. 3501 et seq.

Regulatory Flexibility Act

Under the Regulatory Flexibility Act (RFA), 5 U.S.C. 601 et seq., a federal agency must prepare an initial regulatory flexibility analysis “for any proposed rule” for which the agency “is required by section 553 of the Administrative Procedure Act (APA), or any other law, to publish general notice of proposed rulemaking.” The RFA exempts from this requirement any rule that the issuing agency certifies “will not, if promulgated, have a significant economic impact on a substantial number of small entities.” The EPA has concluded that NPDES general permits are permits, not rulemakings, under the APA and thus not subject to APA rulemaking requirements or the FRA.

Dated: August 14, 2015.
Daniel D. Opalski,
Director, Office of Water and Watersheds, Region 10.

[FR Doc. 2015-20902 Filed 8-21-15; 8:45 am]

BILLING CODE 6560-50-P